NUCLEAR REGULATORY COMMISSION

[Docket No. 72-25]

Foster Wheeler Environmental Corporation's Proposed Idaho Spent Fuel Facility; Notice of Intent To Prepare an Environmental Impact Statement and Conduct Scoping Process

AGENCY: Nuclear Regulatory Commission.

ACTION: Notice of Intent (NOI).

SUMMARY: Foster Wheeler Environmental Corporation (FWENC) submitted a license application on November 19, 2001 (67 FR 43358, June 27, 2002) for the receipt, possession, storage and transfer of spent nuclear fuel (SNF) and other radioactive materials associated with SNF at its proposed Idaho Spent Fuel Facility, an independent spent fuel storage installation (ISFSI), to be located on the Idaho National Engineering and Environmental Laboratory (INEEL) site in Butte County, Idaho. The license application will be considered under the provisions of NRC regulations at 10 CFR part 72. If granted, the license will authorize the applicant to store SNF in a dry storage system at the applicant's Idaho Spent Fuel Facility site.

Additionally, in accordance with Nuclear Regulatory Commission (NRC) regulations at 10 CFR part 51 and the National Environmental Policy Act (NEPA), an environmental impact statement (EIS) is being prepared to examine the potential environmental impacts of the proposed licensing action (i.e. to construct and operate an ISFSI, including transfer of certain SNF from wet storage to dry interim storage pending its final transfer to a geologic repository).

At this time, the NRC is soliciting public comments on the scope of this EIS. Scoping is an early and open process designed to determine the range of actions, alternatives, and potential impacts to be considered in the EIS, and to identify the significant issues related to the proposed action. It is intended to solicit input from the public and other agencies so that the analysis can be more clearly focused on issues of genuine concern. Please see supplementary information for more details.

DATES: The public scoping process required by NEPA begins with publication of this NOI in the Federal Register and continues until September 16, 2002. Written comments submitted by mail should be postmarked by that date to ensure consideration. Comments mailed after that date will be considered to the extent practical. Comments will also be accepted by electronic or facsimile submission.

ADDRESSES: Members of the public are invited and encouraged to submit comments to the Chief, Rules and Directives Branch, Mail Stop T6-D59, U.S. Nuclear Regulatory Commission, Washington, DC 20555-0001. Please note Docket No. 72-25 when submitting comments. Due to the current mail situation in the Washington, DC area, commentors are encouraged to send comments electronically to isffacility@nrc.gov or by facsimile to (301) 415-5398, ATTN: Matt Blevins.

FOR FURTHER INFORMATION CONTACT: For environmental review questions, please contact Matt Blevins at (301) 415-7684, e-mail: mxb6@nrc.gov. For questions related to the safety review or licensing of the Idaho Spent Fuel Facility, please contact Randall Hall at (301) 415-1336.

Availability of Documents for Review: Information and documents associated with the Idaho Spent Fuel Facility project, including the Environmental Report submitted on November 19, 2001, and the License Application, may be obtained from the Internet on NRC's Idaho Spent Fuel Facility Web page: http://www.nrc.gov/waste/spent-fuel-storage.html (case sensitive). In addition, documents are available for public review through our electronic reading room: http://www.nrc.gov/reading-rm.html. Documents may also be obtained from NRC's Public Document Room located at U.S. Nuclear Regulatory Commission Headquarters, 11555 Rockville Pike (first floor), Rockville, Maryland.

SUPPLEMENTARY INFORMATION:

1.0 Background

During the last 40 years, the U.S. Department of Energy (DOE) and its predecessor agencies have generated, transported, received, stored, and reprocessed SNF at DOE facilities nationwide. Part of this SNF originated from non-DOE domestic, licensed facilities, including training, research, and test reactors at universities, commercial reactors, and government-owned installations for which DOE has contractual obligations to accept SNF. Most of this SNF is in wet storage at a site that overlies the Snake River Plain Aquifer, a major water source for the region. Among the SNF stored by DOE at the INEEL is SNF resulting from operation of the Peach Bottom Unit 1 nuclear power reactor, which was licensed by the Atomic Energy Commission and operated between 1966 and 1974. A Settlement Agreement dated October 17, 1995, between the DOE, the U.S. Navy, and the State of Idaho requires the transfer and dry storage of this SNF until it can be removed from Idaho. As part of its compliance with the Settlement Agreement, the DOE contracted with FWENC to design, license, construct, and operate the Idaho Spent Fuel Facility ISFSI at the INEEL to provide interim dry storage for a portion of the SNF covered by the Settlement Agreement.

DOE has previously issued a Record of Decision (60 FR 28680) pertaining to its SNF management program. DOE's decisions were based in part on the information and analyses contained in the final Environmental Impact Statement, “Programmatic Spent Nuclear Fuel Management and Idaho National Engineering Laboratory Environmental Restoration and Waste Management Programs Environmental Impact Statement, DOE/EIS-0203-F.” Volume 2 of the DOE EIS evaluates the potential impacts of the SNF management program at the INEEL (Appendix C of the DOE EIS contains additional information on foreseeable projects, including the Idaho Spent Fuel Facility ISFSI).

Previous to this application, NRC issued a license to DOE in 1998 for the construction and operation of another ISFSI at the INEEL for the storage of SNF from the Three Mile Island—Unit 2 reactor (TMI-2). This license was supported, in part, by the document, “Final Environmental Impact Statement for the Construction and Operation of an Independent Spent Fuel Storage Installation to Store the Three Mile Island Unit 2 Spent Fuel at the Idaho National Engineering and Environmental Laboratory.” The TMI-2 ISFSI is located adjacent to the proposed site of the Idaho Spent Fuel Facility.

Therefore, it is conceivable that many of the environmental impacts have been previously reviewed. The NRC and its contractor, Argonne National Laboratory, are currently reviewing appropriate documents to ensure efficiency and to make decisions regarding their use (i.e. supplementing, tiering, or adoption) in preparation of the Idaho Spent Fuel Facility EIS.

2.0 Idaho Spent Fuel Facility at INEEL

The Idaho Spent Fuel Facility is designed to provide safe interim dry storage for three basic kinds of SNF currently stored at the INEEL. The facility will primarily be used for storage of SNF from the Peach Bottom Unit 1 reactor but it will also be used for storage of SNF from the Shippingport reactor and SNF from the Training, Research, Isotope reactors built by General Atomics (TRIGA reactors). The Peach Bottom Unit 1 and Shippingport reactors ceased operation in 1974 and 1983, respectively. Because of the lengthy cooling period since final operation, these fuels produce relatively low decay heat compared to typical commercial SNF. The TRIGA reactor SNF originated from TRIGA research reactors worldwide. Although the age of the TRIGA reactor SNF varies, it also generates very low decay heat because of the design and operational characteristics of the TRIGA research reactors.

The Idaho Spent Fuel Facility will provide for receipt and repackaging of the SNF into sealed storage canisters. The canisters provide the primary confinement boundary for the SNF. These canisters are designed to ensure ready retrievability of the SNF and facilitate transfer of the SNF to a repository for eventual permanent disposal without the need for further direct handling or repackaging. The loaded and sealed canisters will be stored in individual storage tubes that have a bolted lid with double metallic O-ring seals. The storage tubes provide a redundant confinement boundary for the SNF. The storage area provides radiological shielding, passive natural convection air-cooling, and easily retrievable storage capability for the canisters. When a high-level waste geologic repository becomes available, the canisters may then be removed from the Idaho Spent Fuel Facility, loaded into a transportation cask (to be certified in accordance with 10 CFR part 71), and transported off-site.

3.0 Purpose and Need for Agency Action

The proposed action to build the Idaho Spent Fuel Facility is intended to satisfy the requirements of a Settlement Agreement dated October 17, 1995, between the DOE, the U.S. Navy, and the State of Idaho that requires the transfer and dry storage of SNF until the SNF can be removed from Idaho.

4.0 Alternatives To Be Evaluated

Note that NRC is limited to issuing, issuing with conditions, or denying the materials license for the Idaho Spent Fuel Facility ISFSI at the INEEL. The DOE has already decided to pursue the “regionalization by fuel type” and the “modified 10-year plan” (which includes dry storage upgrades) approaches for management of SNF (60 FR 28680; June, 1, 1995). These decisions will not be revisited by NRC. Other alternatives not listed here may be identified through the scoping process.

4.1 Proposed Action

The proposed action involves the construction and operation of the Idaho Spent Fuel Facility ISFSI at the INEEL. The applicant would be issued an NRC license under the provisions of 10 CFR Part 72 that would authorize the applicant to transfer, repackage, and place into dry storage, certain types of spent nuclear fuel.

4.2 No Action: Do Not Issue License

The no-action alternative would be not to build the proposed Idaho Spent Fuel Facility. Under the no-action alternative, NRC would not approve the license application to construct and operate the proposed Idaho Spent Fuel Facility ISFSI and DOE would continue to store the SNF in it's current location on the INEEL in spent fuel pools.

5.0 Environmental Impact Areas To Be Analyzed

The following areas have been tentatively identified for analysis in the EIS. This list is not intended to be all inclusive, nor is it a predetermination of potential environmental impacts. The list is presented to facilitate comments on the scope of the EIS. Additions to or deletions from this list may occur as a result of the public scoping process.

—Health and Safety: potential public and occupational consequences from construction, routine operation, transportation, and credible accident scenarios;

—Waste Management: types of wastes expected to be generated, handled, and stored; and the potential consequences to public safety and the environment;

—Water Resources: surface and groundwater hydrology, water use and quality, and the potential for degradation;

—Air Quality: meteorological conditions, ambient background, pollutant sources, and the potential for degradation;

—Earth Resources: physical geography, topography, geology and soil characteristics;

—Ecological Resources: wetlands, aquatic and terrestrial resources, economically and recreationally important species, and threatened and endangered species;

—Socioeconomic: demography, economic base, labor pool, housing, transportation, utilities, public services/facilities, education, recreation, and cultural resources;

—Natural Disasters: floods, hurricanes, tornadoes, and seismic events;

—Cumulative Effects: impacts from past, present and reasonably foreseeable actions at and near the site(s);

—Indirect Effects: transportation to the Idaho Spent Fuel Facility;

—Unavoidable Adverse Impacts; and

—Environmental Justice: any potential disproportionately high and adverse impacts to minority and low-income populations.

Alternatives other than those presented in this document may warrant examination, and new issues may be identified for evaluation.

6.0 Scoping Comment Period

One purpose of this NOI is to encourage public involvement in the EIS process, and to solicit public comments on the proposed scope and content of the EIS. The NRC invites the following entities to participate in the scoping process:

a. The applicant, Foster Wheeler Environmental Corporation.

b. Any Federal agency that has jurisdiction by law or special expertise with respect to any environmental impact involved, or that is authorized to develop and enforce relevant environmental standards.

c. Affected State and local government agencies, including those authorized to develop and enforce relevant environmental standards.

d. Any affected Indian tribe.

e. Any person who requests or has requested an opportunity to participate in the scoping process.

f. Any person who intends to petition for leave to intervene.

Scoping is an early and open process designed to determine the range of actions, alternatives, and potential impacts to be considered in the EIS, and to identify the significant issues related to the proposed action. It is intended to solicit input from the public and other agencies so that the analysis can be more clearly focused on issues of genuine concern. The principal goals of the scoping process are to:

a. Ensure that concerns are identified early and are properly studied;

b. Identify alternatives that will be examined;

c. Identify significant issues that need to be analyzed;

d. Eliminate unimportant issues;

e. Identify and reference issues that have been previously analyzed; and

f. Identify public concerns.

7.0 Scoping Comments

Written comments should be mailed to: Michael T. Lesar, Chief, U.S. Nuclear Regulatory Commission, Rules & Directives Branch, Division of Administrative Services, Office of Administration, Mail Stop T6D59, Washington, DC 20555-0001. Please note Docket No. 72-25 when submitting comments.

Comments will also be accepted by e-mail. Interested parties may e-mail their comments to isffacility@nrc.gov. Comments will also be accepted by fax at 301-415-5398, ATTN: Matt Blevins.

The NRC will make the scoping summaries and project-related materials available for public review through our electronic reading room: http://www.nrc.gov/reading-rm.html. The scoping meeting summaries and project-related materials will also be available on the NRC's Idaho Spent Fuel Facility Web page http://www.nrc.gov/waste/spent-fuel-storage.html (case sensitive).

8.0 The NEPA Process

The EIS for the Idaho Spent Fuel Facility will be prepared according to the National Environmental Policy Act (NEPA) of 1969 and NRC's NEPA Regulations (10 CFR part 51).

The draft EIS is scheduled to be published in May 2003. A 45-day comment period on the draft EIS is planned, and public meetings to receive comments will be held approximately three weeks after distribution of the draft EIS. Availability of the draft EIS, the dates of the public comment period, and information about the public meetings will be announced in the Federal Register, on NRC's Idaho Spent Fuel Facility Web page, and in the local news media when the draft EIS is distributed. The final EIS, which will incorporate public comments received on the draft EIS, is expected in December 2003.

Dated at Rockville, Maryland, this 19th day of July, 2002.
For the Nuclear Regulatory Commission.
Cheryl Trottier,
Chief, Environmental and Performance Assessment Branch, Division of Waste Management, Office of Nuclear Material Safety and Safeguards.

[FR Doc. 02-18967 Filed 7-25-02; 8:45 am]

BILLING CODE 7590-01-P